DEPARTMENT OF HEALTH AND HUMAN SERVICES

National Institutes of Health

Submission for OMB Review; Comment Request; Assessment of the Use of Special Funding for Research on Type 1 Diabetes Provided by the Balanced Budged Act of 1997 and the FY 2001 Consolidated Appropriations Act.

SUMMARY: Under the provisions of section 3507(a)(1)(D) of the Paperwork Reduction Act of 1995, the National Institute of Diabetes and Digestive and Kidney Diseases (NIDDK), the National Institutes of Health (NIH) has submitted to the Office of Management and Budget (OMB) a request for review and approval of the information collection listed below. This proposed information collection was previously published in the Federal Register on November 28, 2001, page 59438 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: Assessment of the Use of Special Funding for Research on Type 1 Diabetes Provided by the Balanced Budget Act of 1997 and the FY 2001 Consolidated Appropriations Act. Type of Information Collection Requested: NEW. Need and Use of Information Collection: This survey will be one source of input into a statutorily mandated assessment and report to the Congress on special funding for research on type 1 diabetes provided by 42 U.S.C. 254c-2 and 42 U.S.C. 1254c-2 note, “Special Diabetes Program for Type 1 Diabetes” (as created by the Balanced Budget Act of 1997, Pub. L. 105-33, and amended by the FY 2001 Consolidated Appropriations Act, Pub. L. 106-554). The primary objective of this study is to gain information, via a brief questionnaire, from NIH research grantees who were the primary recipients of these special funds. The responses will provide valuable information concerning how the funds have facilitated research as intended by these Acts of the Congress. Information from this study will aid in evaluation of the process by which the research goals for use of the special type 1 diabetes funds have been developed and are being pursued. Responses from this study will contribute to a statutorily mandated report, due to the Congress on January 1, 2003 (42 U.S.C. 254c-2 and 42 U.S.C. 1254c-2 note), evaluating the process and efforts under this program and assessing research initiatives funded by these Acts of the Congress. Frequency of Response: The initial survey will require a one time response; though, respondents may be contacted again in the event of future congressionally mandated reports on the use of the special type 1 diabetes research funds. Affected Public: Research scientists who received the special funds about which the Congress has mandated in law the requirements for an evaluation report. Type of Respondents: Laboratory and clinical investigators who have received support from the special type 1 diabetes funds provided under the laws previously cited. The annual reporting burden is as follows: Estimated number of respondents: 300; Estimated Number of Responses per Respondent: 1; Average Burden Hours per Response: 1 hour for nine questions; and Estimated Total Burden Hours Requested: 300. The annualized total cost to respondents is estimated at: $15,000. It is expected that the respondents will be contacted and will return their responses via electronic mail. These measures will reduce the burden on the respondents and the overall costs of administering the study. Respondents will be asked to answer nine questions, one-third of which will be answered with “yes” or “no” or a one-word response. There are no Capital Costs, Operating Costs or Maintenance Costs to report.

Request for Comments

Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information one those who are to respond, including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Dr. Michelle A. Cissell, AAAS/NIH Science Policy Fellow, Office of Scientific Program and Policy Analysis, NIDDK, NIH, Building 31, Room 9A11, 9000 Rockville Pike, Bethesda, MD 20892, or call non-toll-free number (301) 496-6623 or e-mail your request, including your address to: cissellm@extra.niddk.nih.gov.

Comments Due Date

Comments regarding this information collection are best assured of having their full effect if received within 30 days of the date of this publication.

Dated: April 22, 2002.
Barbara Merchant,
Executive Officer, NIDDK.

[FR Doc. 02-11521 Filed 5-8-02; 8:45 am]

BILLING CODE 4140-01-M